ENVIRONMENTAL PROTECTION AGENCY

[ER-FRL-6682-2]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 7, 2006 (71 FR 17845).

Draft EISS

EIS No. 20060295, ERP No. D-BLM-J65468-WY, Casper Field Office Planning Area Resource Management Plan, Implementation, Natrona, Converse, Goshen, and Platte Counties, WY.

Summary: EPA supports BLM's goal to update the RMP based on emerging issues and changing circumstances and appreciates efforts to address impacts to wetlands, riparian habitat, and water quality, but had environmental concerns about impacts to these resources and the Final EIS should include additional mitigation measures. Rating EC2.

EIS No. 20060311, ERP No. D-NPS-J61110-UT, Utah Museum of Natural History, Construction and Operation, New Museum Facility at University of Utah, Salt Lake City, UT.

Summary: EPA does not object to the proposed action. Rating LO.

EIS No. 20060362, ERP No. D-NOA-L91028-AK, Alaska Groundfish Harvest Specifications Project, Establish Harvest Strategy for the Bering Sea and Aleutian Islands (BSAI) and Gulf of Alaska (GOA) Groundfish Fisheries, AK.

Summary: EPA expressed environmental concerns because the preferred alternative would have greater impacts to target and non-target species than other alternatives, and requested additional information on how environmental justice requirements were met. Rating EC2.

EIS No. 20060374, ERP No. D-AFS-J65472-CO, Bull Mountain Natural Gas Pipeline, Construct, Operate and Maintain Natural Gas Pipeline, Issuance of Right-of-Way Grant and Temporary Use Area Permits, Gunnison, Delta, Mesa, Garfield Counties, CO.

Summary: EPA expressed environmental concerns about potential adverse impacts to wetlands and riparian areas, vegetation, air and water quality, and off-road vehicle and inventoried road-less area aspects within the pipeline disturbance corridor, and suggests that the Final EIS include additional BMPs that avoid or reduce impacts. Rating EC2.

EIS No. 20060420, ERP No. DS-AFS-F65047-IN, German Ridge Restoration Project, New Information on 2006 Land and Resource Management Plan and on the Inadequate Effects Analysis, Implementation, Hoosier National Forest, Tell City Ranger District, Perry County, IN.

Summary: EPA expressed environmental concerns and recommended the FEIS include additional analysis focusing on quantity of habitat types affected/created by proposed management activities at the project, cumulative impacts, and forest levels. Rating EC2.

Final EISs

EIS No. 20060371, ERP No. F-BLM-J65432-CO, Roan Plateau Resource Management Plan Amendment, Including Former Naval Oil Shale Reserves 1 and 3, Garfield and Rio Blanco Counties, CO.

Summary: EPA continues to have environmental concerns about potential adverse impacts from increased access to the top of the Roan Plateau, fragmentation of critical winter habitat for mule deer (base of plateau), maintaining areas with wilderness characteristics, and adverse impacts from sedimentation on the Colorado cutthroat.

EIS No. 20060396, ERP No. F-NPS-J65442-WY, Grand Teton National Park Transportation Plan, Implementation, Grand Teton National Park, Teton County, WY.

Summary: EPA continues to have environmental concerns about the NPS's wetland impairment classification process and potential for adverse impacts to wetlands from the selected alternative.

EIS No. 20060398, ERP No. F-AFS-J65460-UT, Upper Strawberry Allotments Grazing, Authorize Livestock Grazing, Hebert Ranger District, Pinta National Forest, Wasatch County, UT.

Summary: EPA's environmental concerns about adverse impacts from cattle grazing on riparian habitat and water quality have been addressed by the development of a more comprehensive Adaptive Management Plan; therefore, EPA does not object to the proposed action.

EIS No. 20060447, ERP No. F-BLM-K08031-00, Devers-Palo Verde No. 2 Transmission Line Project, Construction and Operation of a New 230-mile 500 kV Electric Transmission Line between Devers Substation in California and Harquahala Generating Substation in Arizona.

Summary: The Final EIS addressed EPA's concerns with potential cumulative impacts to air quality, and compliance with CWA section 404; therefore, EPA does not object to the proposed action.

EIS No. 20060450, ERP No. F-NRS-B36026-MA, Cape Cod Water Resources Restoration Project, Restore Degraded Salt Marshes, Restore Anadromous Fish Passages, and Improve Water Quality for Shellfishing Area, Cape Cod, Barnstable County, MA.

Summary: EPA does not object to the project.

EIS No. 20060439, ERP No. FS-AFS-K65184-CA, Rock Creek Recreational Trails Project, Updated Information on Habitat Status and Population Trend for the Pacific Deer Herd, Implementation, Eldorado National Forest, Eldorado County, CA.

Summary: No formal comment letter was sent to the preparing agency.

Dated: December 12, 2006.
Robert W. Hargrove,
Director, NEPA Compliance Division, Office of Federal Activities.

[FR Doc. E6-21407 Filed 12-14-06; 8:45 am]

BILLING CODE 6560-50-P